ENVIRONMENTAL PROTECTION AGENCY

40 CFR Part 9

[OPPT-2003-0002; FRL-7314-5]

OMB Approvals Under the Paperwork Reduction Act; Technical Amendment

AGENCY: Environmental Protection Agency (EPA).

ACTION: Final rule.

SUMMARY: In compliance with the Paperwork Reduction Act (PRA), this technical amendment updates the table that lists the Office of Management and Budget (OMB) control numbers issued under the PRA for information collection requirements contained in EPA's regulations that are promulgated in title 40 of the Code of Federal Regulations (CFR). This technical amendment adds new approvals published in the Federal Register since July 1, 2000, and removes expired and terminated approvals.

DATES: This rule is effective June 23, 2003.

FOR FURTHER INFORMATION CONTACT: Angela F. Hofmann, Director, Regulatory Coordination Staff, Office of Prevention, Pesticides and Toxic Substances (7101M), Environmental Protection Agency, 1200 Pennsylvania Ave., NW., Washington, DC 20460-0001; telephone number: (202) 564-0258; e-mail address: hofmann.angela@epa.gov.

SUPPLEMENTARY INFORMATION:

I. General Information

A. Does this Action Apply to Me?

This action is directed to the public in general. This action may, however, be of interest to those persons who are concerned about OMB approval for information collections required by EPA regulations. Since other entities may also be interested, the Agency has not attempted to describe all the specific entities that may be affected by this action. If you have any questions regarding the applicability of this action to a particular entity, consult the person listed under FOR FURTHER INFORMATION CONTACT.

B. How Can I Get Copies of this Document and Other Related Information?

1. Docket. EPA has established an official public docket for this action under docket identification (ID) number OPPT-2003-0002. The official public docket consists of the documents specifically referenced in this action, any public comments received, and other information related to this action. Although a part of the official docket, the public docket does not include Confidential Business Information (CBI) or other information whose disclosure is restricted by statute. The official public docket is the collection of materials that is available for public viewing at the EPA Docket Center, Rm. B102-Reading Room, EPA West, 1301 Constitution Ave., NW., Washington, DC. The EPA Docket Center is open from 8:30 a.m. to 4:30 p.m., Monday through Friday, excluding legal holidays. The EPA Docket Center Reading Room telephone number is (202) 566-1744 and the telephone number for the OPPT Docket, which is located in EPA Docket Center, is (202) 566-0280.

2. Electronic access. You may access this Federal Register document electronically through the EPA Internet under the “Federal Register” listings at http://www.epa.gov/fedrgstr/. A frequently updated electronic version of 40 CFR part 9 is available at http://www.access.gpo.gov/nara/cfr/cfrhtml_00/Title_40/40cfr9_00.html, a beta site currently under development.

An electronic version of the public docket is available through EPA's electronic public docket and comment system, EPA Dockets. You may use EPA Dockets at http://www.epa.gov/edocket/ to submit or view public comments, access the index listing of the contents of the official public docket, and to access those documents in the public docket that are available electronically. Although not all docket materials may be available electronically, you may still access any of the publicly available docket materials through the docket facility identified in Unit I.B.1. Once in the system, select “search,” then key in the appropriate docket ID number.

II. Background

A. Why is this Technical Amendment Being Issued?

This document updates the OMB control numbers listed in 40 CFR part 9 for various actions published in the Federal Register since July 1, 2000, and issued under the Toxic Substances Control Act (TSCA) (15 U.S.C. 2601), the Federal Insecticide, Fungicide, and Rodenticide Act (FIFRA) (7 U.S.C. 136), and the Federal Food, Drug, and Cosmetic Act (FFDCA) (21 U.S.C. 408). EPA will continue to present OMB control numbers in a consolidated table format in 40 CFR part 9 of the Agency's regulations. The table lists CFR citations with reporting, recordkeeping, or other information collection requirements that require OMB approval under the PRA (44 U.S.C. 3501 et seq.), and the current OMB control numbers. This listing of the OMB control numbers and their subsequent codification in the CFR satisfies the requirements of the PRA (44 U.S.C. 3501 et seq.) and OMB's implementing regulations at 5 CFR part 1320.

B. Why is this Technical Amendment Issued as a Final Rule?

The information collection activities included in this document were previously subject to public notice and comment prior to OMB approval, as part of the OMB approval or rulemaking process. Therefore, EPA finds that publication of a proposed rule is unnecessary and would waste public tax dollars. This technical amendment is effective upon publication under the “good cause” clause found in section 553(b)(3)(B) of the Administrative Procedure Act (APA) (5 U.S.C. 553(b)(3)(B)) which allows a regulatory action to become final without prior notice and comment.

C. What Specific Changes are Being Made?

The following changes are being made to the table in § 9.1:

1. Table amended to reflect new requirements. In the Federal Register of July 19, 2001 (66 FR 37772) (FRL-6057-7), EPA issued final regulations under FIFRA for Plant-Incorporated Protectants (Formerly Plant-Pesticides), with provisions codified in 40 CFR parts 152 and 174. The information collection requirements contained in this rule consisted of up-front substantiation for claims of CBI for plant-incorporated protectant activities (e.g., EUP submissions, registration applications, tolerance requests, and adverse-effects reporting), and for adverse-effects reporting for the otherwise exempt plant-incorporated protectants. OMB approved the Information Collection Request (ICR) for this rule on July 31, 2001, under OMB control number 2070-0142 (EPA ICR No. 1693.02). EPA announced this approval in the Federal Register on September 28, 2001 (66 FR 49664) (FRL-7069-8). Copies of these documents are available in the docket described in Unit I.B.1.

2. Table amended to reflect ICR consolidation. EPA consolidated the information collection activities related to the PCB regulations in 40 CFR part 761 under a single ICR. All of these information collection activities were already approved by OMB under the following OMB control numbers: 2070-0003 (EPA ICR No. 1000); 2070-0008 (EPA ICR No. 1001); 2070-0011 (EPA ICR No. 1012); 2070-0021 (EPA ICR No. 857); 2070-0112 (EPA ICR No. 1446); and 2070-0159 (EPA ICR No. 1729), and the table in part 9 identified these OMB control numbers. OMB approved the consolidated ICR on August 29, 2001, under OMB control number 2070-0112 (EPA ICR No. 1446.07). EPA announced this approval in the Federal Register on December 14, 2001 (66 FR 64817) (FRL-7118-4), see also the Federal Register of February 12, 2002 (67 FR 6519) (FRL-7142-4). Copies of these documents are available in the docket described in Unit I.B.1.

3. Table amended to reflect changes in the regulations. Since July 1, 2001, EPA has taken several actions related to significant new use rules (SNURs) promulgated under TSCA section 5(a)(2). The paperwork burden associated with a SNUR has been approved under OMB control numbers 2070-0012 (EPA ICR No. 0574.11), when related to new chemicals, and 2070-0038 (EPA ICR No. 1188.07), when related to existing chemicals. These ICRs were first approved in the late 1980s and have been renewed every 3 years, and the latest approval for these ICRs were announced in the Federal Register on September 28, 2001 (66 FR 49664) for 2070-0012, and in the Federal Register on February 3, 2003 (68 FR 5288) (FRL-7446-7) for 2070-0038. Copies of these documents are available in the docket described in Unit I.B.1.

EPA is removing several entries because the SNURs have been revoked. Specifically, in the Federal Register on December 11, 2001 (66 FR 63941) (FRL-6807-3), EPA removed §§ 721.3460 and 721.6820, and in the Federal Register on September 27, 2002 (67 FR 60991) (FRL-7186-9), EPA removed §§ 721.3628, 721.5300, and 721.8170. Since these provisions no longer exist, the corresponding listing in the table should be removed as well.

EPA is adding several entries to reflect the promulgation of the SNURs. Specifically, in the Federal Register on March 11, 2002 (67 FR 11007) (FRL-6823-6), EPA established a new § 721.9582. In the Federal Register on April 11, 2002 (67 FR 17643) (FRL-6805-1), EPA established new §§ 721.1230, 721.1240, 721.3780, and 721.8175. In the Federal Register on March 28, 2003 (68 FR 15061) (FRL-6758-7), EPA established the following new §§ 721.321; 721.338; 721.463; 721.465; 721.522; 721.525; 721.532; 721.533; 721.638; 721.648; 721.843; 721.910; 721.990; 721.1767; 721.1852; 721.1878; 721.1880; 721.2093; 721.2155; 721.2465; 721.2577; 721.2582; 721.2584; 721.2673; 721.3805; 721.3807; 721.3812; 721.3818; 721.3848; 721.4136; 721.4486; 721.4575; 721.5260; 721.5262; 721.5283; 721.5286; 721.5452; 721.5454; 721.5590; 721.5925; 721.6005; 721.6178; 721.6181; 721.6183; 721.6205; 721.8085; 721.8658; 721.8920; 721.9502; 721.9504; 721.9538; 721.9597; and 721.9952. The table is amended to list these new sections, along with their corresponding OMB control number as identified in the final rule.

III. Statutory and Executive Order Reviews

This final rule implements technical amendments to 40 CFR part 9 to reflect changes to OMB approvals under the PRA. It does not otherwise impose or amend any requirements. As such, this action is not a “significant regulatory action” under Executive Order 12866, entitled Regulatory Planning and Review (58 FR 51735, October 4, 1993), and is therefore not subject to review by OMB.

Because this action is not economically significant as defined by section 3(f) of Executive Order 12866, this action is not subject to Executive Order 13045, entitled Protection of Children from Environmental Health Risks and Safety Risks (62 FR 19885, April 23, 1997).

This rule does not contain any new information collection requirements that require review or approval by OMB pursuant to the PRA. The information collection activities associated with the OMB control numbers contained in this document have already been approved by OMB.

Since the Agency has made a “good cause” finding that this action is not subject to notice and comment requirements under the APA or any other statute (see Unit II.B.), this action is not subject to the regulatory flexibility provisions of the Regulatory Flexibility Act (RFA) (5 U.S.C. 601 et seq.), or to sections 202 and 205 of the Unfunded Mandates Reform Act of 1995 (UMRA) (Public Law 104-4).

In addition, this action does not significantly or uniquely affect small governments or impose a significant intergovernmental mandate, as described in sections 203 and 204 of UMRA. This rule will not have substantial direct effects on the States, on the relationship between the national government and the States, or on the distribution of power and responsibilities among the various levels of government, as specified in Executive Order 13132, entitled Federalism (64 FR 43255, August 10, 1999). Similarly, this rule will not have substantial direct effects on tribal governments, on the relationship between the Federal government and Indian tribes, or on the distribution of power and responsibilities between the Federal government and Indian tribes, as specified in Executive Order 13175, entitled Consultation and Coordination with Indian Tribal Governments (65 FR 67249, November 6, 2000).

This action does not involve any technical standards that require the Agency's consideration of voluntary consensus standards pursuant to section 12(d) of the National Technology Transfer and Advancement Act of 1995 (NTTAA), Public Law 104-113, section 12(d) (15 U.S.C. 272 note).

This rule is not subject to Executive Order 13211, entitled Actions Concerning Regulations That Significantly Affect Energy Supply, Distribution, or Use (66 FR 28355, May 22, 2001), because this action is not a significant regulatory action under Executive Order 12866.

This action will not result in environmental justice related issues and does not therefore, require special consideration under Executive Order 12898, entitled Federal Actions to Address Environmental Justice in Minority Populations and Low-Income Populations (59 FR 7629, February 16, 1994).

IV. Congressional Review Act

The Congressional Review Act (CRA), 5 U.S.C. 801 et seq., as added by the Small Business Regulatory Enforcement Fairness Act of 1996, generally provides that before a rule may take effect, the agency promulgating the rule must submit a rule report, which includes a copy of the rule, to each House of the Congress and to the Comptroller General of the United States. Section 808 of CRA allows the issuing agency to make a rule effective sooner than otherwise provided by the CRA if the agency makes a good cause finding that notice and public procedure is impracticable, unnecessary, or contrary to the public interest. This determination must be supported by a brief statement (5 U.S.C. 808(2)). As stated previously, EPA has made such a good cause finding, including the reasons therefore, and established an effective date of June 23, 2003. EPA will submit a report containing this rule and other required information to the U.S. Senate, the U.S. House of Representatives, and the Comptroller General of the United States prior to publication of this rule in the Federal Register. This rule is not a “major rule” as defined by 5 U.S.C. 804(2).

List of Subjects in 40 CFR Part 9

Environmental protection, Reporting and recordkeeping requirements.

Dated: June 13, 2003.
Stephen L. Johnson,
Assistant Administrator, Office of Prevention, Pesticides and Toxic Substances.

Therefore, 40 CFR chapter I is amended as follows:

PART 9—[AMENDED]

1. The authority citation for part 9 continues to read as follows:

Authority: 7 U.S.C. 135 et seq., 136-136y; 15 U.S.C. 2001, 2003, 2005, 2006, 2601-2671; 21 U.S.C. 331j, 346a, 348; 31 U.S.C. 9701; 33 U.S.C. 1251 et seq., 1311, 1313d, 1314, 1318, 1321, 1326, 1330, 1342, 1344, 1345 (d) and (e), 1361; E.O. 11735, 38 FR 21243, 3 CFR, 1971-1975 Comp. p. 973; 42 U.S.C. 241, 242b, 243, 246, 300f, 300g, 300g-1, 300g-2, 300g-3, 300g-4, 300g-5, 300g-6, 300j-1, 300j-2, 300j-3, 300j-4, 300j-9, 1857 et seq., 6901-6992k, 7401-7671q, 7542, 9601-9657, 11023, 11048.

2. In § 9.1, the table is amended by adding a new heading and its entries in numerical order to read as follows:

§ 9.1 OMB approvals under the Paperwork Reduction Act.

* * * * *

40 CFR citation | OMB control No.
* * * * *
Procedures and Requirements for Plant-Incorporated Protectants
174.9 | 2070-0142 | 174.71 | 2070-0142
* * * * *

* * * * *

3. In § 9.1, the table is amended under the heading “Significant New Uses of Chemical Substances” by removing the entries 721.3460, 721.3628, 721.5300, 721.6820, and 721.8170.

4. In § 9.1, the table is amended under the heading “Significant New Uses of Chemical Substances” by adding the following entries in numerical order:

§ 9.1 OMB approvals under the Paperwork Reduction Act.

* * * * *

40 CFR citation | OMB control No.
* * * * *
Significant New Uses of Chemical Substances
* * * * *
721.321 | 2070-0012
* * * * * | 721.338 | 2070-0012
* * * * * | 721.463 | 2070-0012 | 721.465 | 2070-0012
* * * * * | 721.522 | 2070-0012
* * * * * | 721.525 | 2070-0012
* * * * * | 721.532 | 2070-0012 | 721.533 | 2070-0012
* * * * * | 721.638 | 2070-0012
* * * * * | 721.648 | 2070-0012
* * * * * | 721.843 | 2070-0012
* * * * * | 721.910 | 2070-0012
* * * * * | 721.990 | 2070-0012
* * * * * | 721.1230 | 2070-0012 | 721.1240 | 2070-0012
* * * * * | 721.1767 | 2070-0012
* * * * * | 721.1852 | 2070-0012
* * * * * | 721.1878 | 2070-0012 | 721.1880 | 2070-0012
* * * * * | 721.2093 | 2070-0012
* * * * * | 721.2155 | 2070-0012
* * * * * | 721.2465 | 2070-0012
* * * * * | 721.2577 | 2070-0012
* * * * * | 721.2582 | 2070-0012 | 721.2584 | 2070-0012
* * * * * | 721.2673 | 2070-0012
* * * * * | 721.3780 | 2070-0012
* * * * * | 721.3805 | 2070-0012 | 721.3807 | 2070-0012
* * * * * | 721.3812 | 2070-0012
* * * * * | 721.3818 | 2070-0012
* * * * * | 721.3848 | 2070-0012
* * * * * | 721.4136 | 2070-0012
* * * * * | 721.4486 | 2070-0012
* * * * * | 721.4575 | 2070-0012
* * * * * | 721.5260 | 2070-0012 | 721.5262 | 2070-0012
* * * * * | 721.5283 | 2070-0012
* * * * * | 721.5286 | 2070-0012
* * * * * | 721.5452 | 2070-0012 | 721.5454 | 2070-0012
* * * * * | 721.5590 | 2070-0012
* * * * * | 721.5925 | 2070-0012
* * * * * | 721.6005 | 2070-0012
* * * * * | 721.6178 | 2070-0012
* * * * * | 721.6181 | 2070-0012 | 721.6183 | 2070-0012
* * * * * | 721.6205 | 2070-0012
* * * * * | 721.8085 | 2070-0012
* * * * * | 721.8175 | 2070-0012
* * * * * | 721.8658 | 2070-0012
* * * * * | 721.8920 | 2070-0012
* * * * * | 721.9502 | 2070-0012
* * * * * | 721.9504 | 2070-0012
* * * * * | 721.9538 | 2070-0012
* * * * * | 721.9582 | 2070-0038
* * * * * | 721.9597 | 2070-0012
* * * * * | 721.9952 | 2070-0012
* * * * *

* * * * *

5. In § 9.1, the table is amended by revising the entries under the heading “Polychlorinated Biphenyls (PCBs) Manufacturing, Processing, Distribution in Commerce, and Use Prohibitions” to read as follows:

§ 9.1 OMB approvals under the Paperwork Reduction Act.

* * * * *

40 CFR citation | OMB control No.
* * * * *
Polychlorinated Biphenyls (PCBs) Manufacturing, Processing, Distribution in Commerce, and Use Prohibitions
761.20 | 2070-0112 | 761.30 | 2070-0112 | 761.35 | 2070-0112 | 761.40 | 2070-0112 | 761.60 | 2070-0112 | 761.61 | 2070-0112 | 761.62 | 2070-0112 | 761.65 | 2070-0112 | 761.70 | 2070-0112 | 761.71 | 2070-0112 | 761.72 | 2070-0112 | 761.75(b) and (c) | 2070-0112 | 761.77 | 2070-0112 | 761.79(f) and (h) | 2070-0112 | 761.80(e), (g), (i) and (n) | 2070-0112 | 761.125 | 2070-0112 | 761.180 | 2070-0112 | 761.185 | 2070-0112 | 761.187 | 2070-0112 | 761.193 | 2070-0112 | 761.202(a) | 2070-0112 | 761.205 | 2070-0112 | 761.207 | 2070-0112 | 761.208 | 2070-0112 | 761.209 | 2070-0112 | 761.210 | 2070-0112 | 761.211 | 2070-0112 | 761.215 | 2070-0112 | 761.218 | 2070-0112 | 761.253 | 2070-0112 | 761.274 | 2070-0112 | 761.295 | 2070-0112 | 761.314 | 2070-0112 | 761.357 | 2070-0112 | 761.359 | 2070-0112 | 761.395 | 2070-0112 | 761.398 | 2070-0112
* * * * *

* * * * *

[FR Doc. 03-15669 Filed 6-20-03; 8:45 am]

BILLING CODE 6560-50-S